DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 19, 2007.

Interested persons are invited to submit written comments regarding the subject matter of the investigations to the Director, Division of Trade Adjustment Assistance, at the address shown below, not later than March 19, 2007.

The petitions filed in this case are available for inspection at the Office of the Director, Division of Trade Adjustment Assistance, Employment and Training Administration, U.S. Department of Labor, Room C-5311, 200 Constitution Avenue, NW., Washington, DC. 20210.

Signed at Washington, DC, this 27th day of February 2007.
Ralph Dibattista,
Director, Division of Trade Adjustment Assistance.

Appendix
[TAA petitions instituted between 2/20/07 and 2/23/07]
TA-W | Subject firm (petitioners) | Location | Date of institution | Date of petition
60978 | First Alert/BRK Brands Inc. (Union) | Aurora, IL | 02/20/07 | 02/16/07
60979 | Bright Wood Corporation (State) | Madras, OR | 02/20/07 | 02/16/07
60980 | WestPoint Home (Comp) | Abbeville, AL | 02/20/07 | 02/14/07
60981 | Sunbeam Products Inc. d/b/a Jarden Consumer Solutions (State) | Milford, MA | 02/20/07 | 02/16/07
60982 | Eaton Corporation (Comp) | Galesburg, MI | 02/20/07 | 02/15/07
60983 | United States Ceramic Tile Company (USW) | East Sparta, OH | 02/20/07 | 02/15/07
60984 | Westby Moulding and Millwork Company LLC (Wkrs) | Westby, WI | 02/20/07 | 02/07/07
60985 | Collins & Aikman (State) | Havre de Grace, MD | 02/20/07 | 02/15/07
60986 | Sardelli International LLC (Comp) | Providence, RI | 02/21/07 | 02/14/07
60987 | Stant Manufacturing Co., Inc. (UAW) | Connersville, IN | 02/21/07 | 02/16/07
60988 | Collins & Aikman (Wkrs) | Americus, GA | 02/21/07 | 02/15/07
60989 | National Lumber #5 (Div. of Silvacor Inc.) (Comp) | Glasgow, KY | 02/21/07 | 02/09/07
60990 | Andersen Corporation (State) | Menomenie, WI | 02/21/07 | 02/15/07
60991 | Heinz North America /Lea and Perrins (Wkrs) | Fairlawn, NJ | 02/21/07 | 02/14/07
60992 | Kimberly-Clark/Ballard Medical Products (Comp) | Draper, UT | 02/21/07 | 02/19/07
60993 | Guardian Automotive (Wkrs) | LaGrange, GA | 02/21/07 | 02/14/07
60994 | Yoder Brothers Inc. (Comp) | Pendleton, SC | 02/21/07 | 02/15/07
60995 | Distinctive Designs Furniture Inc. USA (Wkrs) | Granite Falls, NC | 02/21/07 | 02/19/07
60996 | Yamaha Music Manufacturing, Inc. (Comp) | Grand Rapids, MI | 02/21/07 | 02/20/07
60997 | Employment Solutions (Comp) | Fort Collins, CO | 02/21/07 | 02/21/07
60998 | Continental Industries, LLC (Comp) | Benzonia, MI | 02/22/07 | 02/20/07
60999 | Columbus Dispatch (The) (Comp) | Columbus, OH | 02/22/07 | 02/05/07
61000 | Gibraltar DFC Strip Steel LLC (USWA) | Farrell, PA | 02/22/07 | 02/20/07
61001 | Optera Colorado (Wrks) | Longmont, CO | 02/22/07 | 02/16/07
61002 | Reddog Industries, Inc. (Comp) | Erie, PA | 02/22/07 | 02/16/07
61003 | Yamaha Corporation of America (Comp) | Grand Rapids, MI | 02/22/07 | 02/20/07
61004 | Seydel-Wolley and Co., Inc. (Wkrs) | Pendergrass, GA | 02/22/07 | 02/12/07
61005 | United States Sugar Processing, LLC (Comp) | Clewiston, FL | 02/22/07 | 02/16/07
61006 | CST, Inc. (Comp) | Mt. Carmel, IL | 02/22/07 | 02/14/07
61007 | Venture Lighting International (Wkrs) | Solon, OH | 02/22/07 | 02/09/07
61008 | Hutchens Ind. (Wkrs) | Springfield, MO | 02/22/07 | 02/08/07
61009 | Con Agra Foods (State) | Edina, MN | 02/22/07 | 02/21/07
61010 | Avon Automotive (Comp) | Manton, MI | 02/22/07 | 02/16/07
61011 | Shafer Electronics (State) | Shafer, MN | 02/22/07 | 02/21/07
61012 | Avan Tech Manufacturing LLC (Comp) | Mt. Pleasant, TN | 02/22/07 | 02/21/07
61013 | Elder Manufacturing Inc. (Wkrs) | St. Louis, MO | 02/22/07 | 02/21/07
61014 | Burma S Bibas (UNITE) | Long Island City, NY | 02/22/07 | 01/23/07
61015 | Dan D Company (State) | Tillamook, OR | 02/22/07 | 02/21/07
61016 | Modine Manufacturing Company (Wkrs) | Racine, WI | 02/23/07 | 02/20/07
61017 | Catawissa Lumber & Specialty Co. Inc. (Comp) | Catawissa, PA | 02/23/07 | 02/15/07
61018 | International Truck and Engine Corporation/TDTC (UAW) | Fort Wayne, IN | 02/23/07 | 02/22/07

[FR Doc. E7-4059 Filed 3-7-07; 8:45 am]

BILLING CODE 4510-FN-P